DEPARTMENT OF THE INTERIOR

Bureau of Land Management

[NV-930-1430-ET; N-74293]

Termination of Segregation; NV

AGENCY: Bureau of Land Management, Interior.

ACTION: Notice of termination of segregation.

SUMMARY: This action terminates a portion of the segregation known as the Woodhills Land Exchange. The land will be opened to the public land laws generally, including the mining and mineral leasing laws.

EFFECTIVE DATE: June 24, 2002.

ADDRESSES: Written comments should be addressed to: Bureau of Land Management, Jeffrey A. Weeks, Assistant Field Manager, Nonrenewable Resources, HC 33, Box 33500, Ely, NV 89301-9408.

FOR FURTHER INFORMATION CONTACT: Doris Metcalf, Realty Specialist, at the above address or telephone (775) 289-1852.

SUPPLEMENTARY INFORMATION: Pursuant to the authority delegated by appendix 1 of Bureau of Land Management Manual 1203 dated November 25, 1998, that portion identified below as being part of the Woodhills Exchange is hereby terminated in its entirety:

Mount Diablo Meridian, Nevada

T. 9 N., R. 67 E., Section 12 S½

13 All

24 E½

25 E½

T. 8 N., R. 68 E. Section

6 All

7 All

T. 9 N., R. 68 E. Section

6 W½

7 All

18 All

19 All

30 W½

31 All

The area described contains 4,480 acres in Lincoln County.

The classification made pursuant to the Act of October 21, 1976, amended, and segregated the public land from all other forms of appropriation under the public land laws, including location under the United States mining laws and the mineral leasing laws. The segregation request has been withdrawn, therefore, is no longer needed. At 9 a.m. on June 24, 2002, the lands described above will be opened to location and entry under the United States mining laws, subject to valid existing rights, the provisions of existing withdrawals, other segregations of record, and the requirements of applicable law. Appropriation of lands under the general mining laws prior to the date and time of restoration is unauthorized. Any such attempted appropriation, including attempted adverse possession under 30 U.S.C. 38, shall vest no rights against the United States. Acts required to establish a location and to initiate a right of possession are governed by State law where not in conflict with Federal law. The Bureau of Land Management will not intervene in disputes between rival locators over possessory rights since Congress has provided for such determinations in local courts.

Dated: April 11, 2002.
Jeffrey A. Weeks,
Assistant Field Manager, Nonrenewable Resources.

[FR Doc. 02-12903 Filed 5-22-02; 8:45 am]

BILLING CODE 4310-HC-P